DEPARTMENT OF HEALTH AND HUMAN SERVICES

Administration for Children and Families

Migrant and Seasonal Farmworkers Study

AGENCY: Office of Head Start.

ACTION: Notice of Public Comment.

SUMMARY: The following Notice of Public Comment is in response to Section 649(f) Sub-Section (3) of the 2007 Head Start School Readiness Act (the Act) requiring the Secretary to publish in the Federal Register a plan of how the Secretary will carry out section 649 Sub-Section (f) Sub-Paragraph (1) and shall provide a period for public comment.

DATES: To ensure consideration, written comments must be submitted on or before 60 days after this notice is published.

To Comment on This Document, or for Further Information Contact: MigrantFederalRegister@HeadStartinfo.org.

SUPPLEMENTARY INFORMATION: Pursuant to the Improving Head Start for School Readiness Act of 2007, Public Law 110-134, Section 649 [42 U.S.C. 9801]—Sub-Section 649(h)(1)(A-B), notice is hereby given of a plan to conduct a set of activities designed to focus on the Migrant and Seasonal Farmworker Head Start-eligible population. As required by the Act, the Secretary shall work in collaboration with providers of Migrant and Seasonal Head Start programs, the Secretary of Agriculture, the Secretary of Labor, the Bureau of Migrant Health, and the Secretary of Education to undertake the activities addressed in this notice. The notice is required to present: (1) A plan to “collect, report, and share data, within a coordinated system, on children of migrant and seasonal farmworkers and their families, including health records and educational documents of such children, in order to adequately account for the number of children of migrant and seasonal farmworkers who are eligible for Head Start services and determine how many of such children receive the services;” (2) a plan to “identify barriers that prevent children of migrant and seasonal farmworkers who are eligible for Head Start services from accessing Head Start services;” and (3) “develop a plan for eliminating such barriers, including certain requirements relating to tracking, health records, and educational documents, and increasing enrollment.”

Migrant and Seasonal Head Start (MSHS) Plans

(1) Collaboration across Federal agencies in order to adequately account for the number of children of migrant and seasonal farmworkers who are eligible for Head Start services and determine how many of such children receive the services.

Interagency Meetings. On December 5, 2008, ACF convened a meeting of representatives from the United States (U.S.) Department of Education (ED), Office of Elementary and Secondary Education, Office of Migrant Education; the U.S. Department of Labor, Employment and Training Administration; and the U.S. Department of Health and Human Services (HHS), Health Resources and Services Administration (HRSA), Office of Migrant Health; the HHS Administration for Children and Families, Office of Head Start (OHS), Migrant and Seasonal Head Start, and the Office of Planning, Research and Evaluation. The purpose of the meeting was to engage these agencies in discussing their efforts in collecting, reporting, and sharing data and lessons learned to enhance coordination among agencies at the Federal, State, and local levels. This meeting resulted in the organization of a series of Interagency Roundtables on Migrant and Seasonal Farmworkers.

The Roundtables will look at:

• Data collection efforts affecting migrant and seasonal farmworker children and their families, including efforts to maintain and coordinate their health and education records: How are data efforts pursued and maintained? How are data collected and reported? What are the lessons learned from previous attempts at coordinating data collection efforts?

• Accounting for the number of eligible children/workers, as well as the number of children/workers who receive services: How do various organizations identify gaps in their services? How can these approaches be improved? and

• Identifying barriers that prevent eligible migrant and seasonal farmworkers and their families from accessing migrant and seasonal services: How can these barriers be reduced, ameliorated or eliminated?

After a first planning meeting with agencies involved, the first Roundtable was held in April 2009 and focused on the Department of Education's Migrant Student Information Exchange (MSIX) and the Department of Labor's National Agricultural Worker's Survey (NAWS). The second half of the day involved active discussions between the Federal representatives, addressing the topical questions in light of the presented information. An additional meeting was held on March 17, 2010.

Systematic Data Collection: Accounting for the Number of Children Eligible

Farmworkers are eligible for MSHS services based on mobility, employment, age of the children, and income. For the eligibility of migrants, the family must be primarily engaged in agricultural work and have changed geographical locations within the past 24 months in pursuit of agricultural work. For seasonal farmworkers eligible for MSHS, the parents must be primarily engaged in farmwork but need not have changed geographical locations within the past 24 months. For both migrant and seasonal farmworkers, acceptable farmwork includes production and harvesting of tree and field crops. Production and harvesting of tree and field crops include preparing the soil, planting, cultivating, picking, packing, canning, and processing. Agricultural work that supports the crop production such as irrigation, crop protection, and operation of farm machinery are also included. Production and harvesting of greenhouse and nursery products may also be included. Eligible children range in age from newborn up to compulsory school age. Income requirements for families are based on poverty guidelines updated annually in the Federal Register by the U.S. Department of Health and Human Services. The income of migrant and seasonal eligible families must be primarily derived from agricultural work.

As OHS has been asked to account for the total number of MSHS-eligible children, it reviewed the data collection resources of other Federal agencies that are also currently serving or observing migrant and seasonal farmworkers. These included the Enumeration Studies of Migrant Health; Reports of Migrant Health Clinics; Data Transferring Efforts of Migrant Education; and the National Agricultural Workers Survey (NAWS) of the Department of Labor.

The methodology of the Enumeration Profiles (Larson Assistance Services, Vashon Island; 1990; 2001; 2002) was very individualized per State and involved intensive effort. The results presented estimates of the number of farmworkers within a State and, when possible, by county and across age groups. The resulting profile estimations were based on secondary data analyses and the opinions of invested experts; the validity and reliability of the information was therefore undermined by the inherent variations in quality and quantity of data from State to State.

There are 154 Federally funded migrant health center (MHC) entities, sponsored by the Office of Migrant Health, that collectively operate more than 500 satellite service sites that comprise a loosely knit network of independent organizations serving migrant and seasonal farmworkers. Their annual reports present the national and State number of farmworkers served by the clinic sites: http://bphc.hrsa.gov/uds/2007data/National/migrant/NationalTable3Amhc.htm. However, methodological and definitional issues currently undermine the possibility of using Migrant Health Clinic data to account for numbers of MSHS-eligible nationally. The HRSA definition of farmworkers eligible for service is similar to the MSHS definition in terms of the types of farmwork allowable and the mobility requirements. However, HRSA does not require the whole family to engage in agricultural work or to change geographical location in order to receive services. Methodologically, programs do not consistently share data across sites, so the cumulative count of individuals served may include workers who are counted more than one time as they migrate for work. Further, information about the entire family is not reported for each individual, so siblings that might be eligible for MSHS are not identified. Finally, migrant clinics are scattered across the U.S., but their distribution does not necessarily reflect a geographically representative profile of farmworkers in the U.S.

Migrant Education of ED uses an extensive network of recruiters to actively identify eligible students in each area. The Migrant Education program uses a data transferring system to coordinate records across schools for children of migrant farmworkers. Again, definitional and methodological issues reduce the usefulness of these data for identifying the number of MSHS-eligible nationally. Migrant Education services are available for children who traveled with their families within the past three years for purposes of a family member's temporary or seasonal employment with agricultural, fishing, farming or logging. Further, Migrant Education recruiters are primarily interested in identifying eligible three-year-olds through high school aged. Given these definitions, the number of children eligible for Migrant Education will differ markedly from those eligible for MSHS.

OHS also reviewed an additional established methodology for accounting for the national population of migrant and seasonal farmworkers: The National Agricultural Worker's Survey (NAWS). NAWS is a national, random sample survey of crop farmworkers in the continental U.S. that is housed at the U.S. Department of Labor (DOL). The data is collected directly from agricultural workers, on an annual basis, using field survey methods. Estimates and data from this effort have been used by HRSA, Migrant Education, and DOL-Farmworkers Job Programs.

Topics covered by NAWS have included farmworker work histories and tasks, as well as health and housing. The survey methodology is complex, with sampling occurring three times per year to capture seasonal and geographic variations in the farmworker population. NAWS interviewers travel to randomly selected counties, contacting an annual sample of approximately 500 agricultural employers to obtain cooperation for the survey. At the randomly selected agricultural establishments, interviewers draw a random sample of farmworkers and then administer the questionnaire. DOL calculates estimates of each State's share of the Migrant Seasonal Farmworkers population based on a formula that includes several data sources, including the Census of Agriculture, U.S. Department of Agriculture's (USDA) Quarterly Agricultural Labor Survey and NAWS. Strengths and weaknesses of each of these datasets are outlined in Steirman, Kissam, and Nakamoto, 1998.

Estimating the national number of eligible MSHS children using NAWS data is a multi-step process. The first step is to calculate a size estimate for the national farmworker population (typically done using either the USDA Farm Labor Survey or the USDA Census of Agriculture). The second step is to identify the percent of the farmworker population eligible for MSHS and the average number of infant through pre-school aged children per family (using three-year averages of NAWS data regarding percentages of farmworker families meeting eligibility requirements). From steps one and two, it is possible to estimate the national average of eligible migrant and seasonal children. To further refine these numbers to agricultural regions, it is necessary to incorporate data regarding the proportion of farmworkers within each region (USDA Farm Labor Survey), and multiply the national average of eligible by these proportions.

Upon review of these methods, the NAWS methodology was identified as an established, carefully designed, large scale approach to estimating numbers of agricultural workers nationally and by agricultural regions. Beginning in February 2008, ACF partnered with DOL to use this established survey to gather a national estimate of MSHS-eligible children (both migrant and seasonal). Estimates for seven multi-state agricultural regions will also be calculated. In June 2009, the results from the pilot year of NAWS will be made available to OHS for review and discussion. Further minor refinement of the NAWS-MSHS questions will be ongoing, to ensure that children who match to the MSHS definition of eligible can be accurately identified.

Additional Systematic Data Collection: Design for MSHS Survey

A team of researchers, led by CDM, Inc., contracted in September 2007, to design the methodology for an MSHS Survey. The plans will detail multiple options for gathering descriptive data at varied levels of the MSHS organization (i.e., program, center, staff, children and/or families). The development activities included gathering of insight and suggestions from program staff, administrators and families who are currently or previously served by MSHS. Topics that could be addressed by the survey and the methods outlined for gathering the data have been substantially shaped and refined by this input from program stakeholders. After completion of the contract and review by ACF leadership, the report for the Design for MSHS Survey project will be placed online in late 2010.

(1) A Plan To Identify Obstacles and Barriers

Focus Groups. As a first step in developing a plan to identify barriers, ACF consulted with MSHS advocates, grantees, families and researchers attending the thirty-eighth and thirty-ninth Annual Migrant and Seasonal Head Start Conferences in Washington, D.C. Potential themes regarding obstacles and barriers will be explored by providing venues that will allow opportunities for comment by key stakeholders. These discussions will be used to seek examples of high-quality recruitment and outreach efforts, details of families' and programs' perceptions of barriers, and potential solutions for reducing or eliminating barriers. The information gained through these venues is being analyzed and will be made available to Federal partners, Migrant and Seasonal Head Start grantees, and advocacy groups for comment and validation.

Efforts for additional discussions with stakeholders are continually explored.

Systematic Data Collection: Identification of Obstacles and Barriers

As discussed extensively above, the NAWS is a national, random sample survey of crop farmworkers in the continental U.S. that is housed at DOL. Beginning in February 2008, ACF partnered with DOL to pilot a questionnaire supplement to NAWS, aimed at families with children under the age of six. The questionnaire supplement asks about:

• Child care options used by the parents in recent months,

• Reasons for those choices,

• Parents' knowledge of MSHS,

• Families' participation in MSHS, and

• Any perceived obstacles to participation.

The resulting information can be collected for multiple cycles of NAWS data, identifying potential issues in various agricultural regions over the course of the seasons. If continued for multiple years, it should be possible to identify trends in farmworker family child care use for their young children and family perceptions of MSHS.

Systematic Data Collection: Incorporation of Related Questions in Design of MSHS Survey

The design options for the MSHS Survey will include components that OHS could use to gather information regarding obstacles and barriers. Possible routes identified thus far include record reviews that could provide insight (e.g., review of local community needs assessments and program recruitment methods); gathering staff and parent opinions regarding obstacles and barriers to MSHS participation; or direct interviews with community partners and local advocacy organizations. The design contract will illuminate methodological and logistical considerations for collecting these types of data, and will be useful as OHS considers future data collection strategies.

(1) A Plan for Eliminating Identified Barriers and for Increasing Enrollment of Eligible Children

Based on the information obtained from the Migrant and Seasonal Roundtables, and input from MSHS grantees, families, researchers, and private organizations involved in advocating for Migrant and Seasonal families, ACF will develop a plan that will articulate barriers identified through (1) and (2) above, propose methods for dealing with them that are within ACF's legislative purview, and incorporate methods that require action by other Federal agencies or statutory changes. The plan for eliminating identified barriers will form the basis for a strategy to increase the enrollment of eligible children in MSHS, as appropriate.

Dated: May 21, 2010.
Yvette Sanchez Fuentes,
Director, Office of Head Start.

[FR Doc. 2010-12795 Filed 5-27-10; 8:45 am]

BILLING CODE 4184-40-P